DEPARTMENT OF COMMERCE

National Oceanic and Atmospheric Administration

RIN 0648-XE479

Endangered Species Act; Public Meeting Addendum

AGENCY: National Marine Fisheries Service (NMFS), National Oceanic and Atmospheric Administration (NOAA), Commerce.

ACTION: Notice of public meeting, addendum.

SUMMARY: The purpose of the program review is to ensure that recovery program priorities and implementation are aligned with resources and mission mandates; enhance and align strategic management of NMFS regulatory programs; and provide transparency in the operation of NMFS recovery program. The purpose of this notice is to provide the final agenda and remote access information for the public meeting.

DATES: The meeting will be held Tuesday April 19, 2016, through Thursday April 21, 2016, at 9 a.m.

ADDRESSES: The meeting will be held at the NOAA Science Center, 1301 East-West Highway, Silver Spring, MD 20910; phone: 301-713-1010.

FOR FURTHER INFORMATION CONTACT: Therese Conant, NMFS Office of Protected Resources, 301-427-8456.

SUPPLEMENTARY INFORMATION: We, NMFS, announced a public meeting of a review of our recovery program under the Endangered Species Act of 1973, as amended (ESA) on March 4, 2016 (81 FR 11518). Under the ESA, section 4(f) requires the Secretary to develop and implement recovery plans for the conservation and survival of endangered and threatened species. Those recovery plans must include objective, measurable criteria which, when met, would lead to a determination that the species be removed from the list, site-specific management actions necessary to achieve the plan's goal for the conservation of the species, and estimates of the time and costs to carry out the measures identified in the plan.

We currently have final recovery plans for 47 species and draft recovery plans for five species. Recovery plans are not started or are under development for 39 species. The objective of the recovery program review is to determine if the current recovery planning process results in recovery plans that are effective roadmaps for recovering the species as evidenced by whether the plans are being implemented by NMFS and stakeholders, resulting in progress towards meeting the recovery criteria so that the species may be delisted. This review will evaluate, within the context of current budget constraints, the efficacy of the recovery planning process, including the quality of the recovery plans, the implementation of recovery actions, and the monitoring of recovery progress. This review will provide recommendations to improve recovery plans and the recovery planning and implementation process to increase the likelihood of recovering species.

The meeting is open to the public all day, and the public will have an opportunity to provide verbal or written comments in one-hour sessions each day. See agenda for remote access information and timing for public comments at under Recent News and Hot Topics at http://www.nmfs.noaa.gov/pr/.

Authority: 16 U.S.C. 1531 et seq.

Dated: April 8, 2016.
Angela Somma,
Chief, Endangered Species Division, Office of Protected Resources, National Marine Fisheries Service.

[FR Doc. 2016-08561 Filed 4-13-16; 8:45 am]

BILLING CODE 3510-22-P